DEPARTMENT OF TRANSPORTATION

Federal Aviation Administration

14 CFR Part 39

[Docket No. FAA-2025-5393; Project Identifier MCAI-2025-00157-R]

RIN 2120-AA64

Airworthiness Directives; Airbus Helicopters Deutschland GmbH (AHD) Helicopters

AGENCY: Federal Aviation Administration (FAA), DOT.

ACTION: Notice of proposed rulemaking (NPRM).

SUMMARY: The FAA proposes to adopt a new airworthiness directive (AD) for all Airbus Helicopters Deutschland GmbH (AHD) Model MBB-BK 117 A-1, MBB-BK 117 A-3, MBB-BK 117 A-4, MBB-BK 117 B-1, MBB-BK 117 B-2, and MBB-BK 117 C-1 helicopters. This proposed AD was prompted by a report of a main rotor head (MRH) having the same part number (P/N) and serial number (S/N) as another MRH due to incorrect modification instructions where the modified part serial number was not re-identified and the MRH can be operated with the wrong associated log card if accidently interchanged. This proposed AD would require performing a one-time consistency check of the P/N and S/N of the MRH, performing corrective actions if applicable, determining if the MRH has been modified, and re-identifying the modified MRH. The proposed AD would also allow replacing the MRH as an optional action and would prohibit the installation of an affected MRH on any helicopter. The FAA is proposing this AD to address the unsafe condition on these products.

DATES: The FAA must receive comments on this NPRM by February 2, 2026.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-5393; or in person at Docket Operations between 9 a.m. and 5 p.m., Monday through Friday, except Federal holidays. The AD docket contains this NPRM, the mandatory continuing airworthiness information (MCAI), any comments received, and other information. The street address for Docket Operations is listed above.

Material Incorporated by Reference:

• For European Union Aviation Safety Agency (EASA) material identified in this proposed AD, contact EASA, Konrad-Adenauer-Ufer 3, 50668 Cologne, Germany; phone: +49 221 8999 000; email: ADs@easa.europa.eu; website: easa.europa.eu. You may find this material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-5393.

FOR FURTHER INFORMATION CONTACT: Promita Dey, Aviation Safety Engineer, FAA, 1600 Stewart Avenue, Suite 410, Westbury, NY 11590; phone: (316) 946-4106; email: promita.dey@faa.gov.

SUPPLEMENTARY INFORMATION:

Comments Invited

The FAA invites you to send any written relevant data, views, or arguments about this proposal. Send your comments using a method listed under ADDRESSES. Include “Docket No. FAA-2025-5393; Project Identifier MCAI-2025-00157-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Promita Dey, Aviation Safety Engineer, FAA, 1600 Stewart Avenue, Suite 410, Westbury, NY 11590. Any commentary that the FAA receives which is not specifically designated as CBI will be placed in the public docket for this rulemaking.

Background

EASA, which is the Technical Agent for the Member States of the European Union, issued EASA AD 2025-0028, dated February 7, 2025 (EASA AD 2025-0028) (also referred to as the MCAI), to correct an unsafe condition on Airbus Helicopters Deutschland GmbH Model MBB-BK117 A-1, MBB-BK117 A-3, MBB-BK117 A-4, MBB-BK117 B-1, MBB-BK117 B-2, and MBB-BK117 C-1 helicopters. The MCAI states that an occurrence was reported of two MRHs having an identical P/N and S/N. The MCAI further states that a subsequent investigation determined that the duplicate identification was due to incorrect modification instructions for the MRH in an Airbus Helicopters service information notice where the modified part serial number was not re-identified; this could result in the MRH being operated with the wrong associated log card if incorrectly interchanged. This condition, if not detected and corrected, could result in operation of an MRH and its critical parts beyond certified limits and lead to failure of certain parts and consequent loss of control of the helicopter.

You may examine the MCAI in the AD docket at regulations.gov under Docket No. FAA-2025-5393.

Material Incorporated by Reference Under 1 CFR Part 51

The FAA reviewed EASA AD 2025-0028, which specifies procedures for a one-time consistency check of the P/N and S/N of the MRH to verify against the existing helicopter log card or equivalent record and, depending on the results, contacting Airbus Helicopters for approved instructions. EASA AD 2025-0028 also specifies procedures for performing an additional check of the existing helicopter log card or equivalent record to determine if the MRH has been modified and procedures for re-identifying an MRH that has been modified. EASA AD 2025-0028 allows replacing the MRH with a serviceable part in accordance with the instructions of the applicable Aircraft Maintenance Manual as an optional action to accomplishing the initial consistency check and the corrective actions. EASA AD 2025-0028 prohibits installing an affected MRH on any helicopter.

This material is reasonably available because the interested parties have access to it through their normal course of business or by the means identified in the ADDRESSES section.

FAA's Determination

These products have been approved by the civil aviation authority (CAA) of another country and are approved for operation in the United States. Pursuant to the FAA's bilateral agreement with this State of Design Authority, it has notified the FAA of the unsafe condition described in the MCAI referenced above. The FAA is issuing this NPRM after determining that the unsafe condition described previously is likely to exist or develop on other products of the same type design.

Proposed AD Requirements in This NPRM

This proposed AD would require accomplishing the actions specified in EASA AD 2025-0028, described previously, as incorporated by reference, except for any differences identified as exceptions in the regulatory text of this proposed AD. See “Differences Between this Proposed AD and the MCAI” for a general discussion of these differences.

Differences Between This Proposed AD and the MCAI

Where the MCAI specifies contacting Airbus Helicopters for repair instructions, this proposed AD would require using a method approved by the FAA, EASA, or Airbus Helicopters' EASA Design Organization Approval.

Explanation of Required Compliance Information

In the FAA's ongoing efforts to improve the efficiency of the AD process, the FAA developed a process to use some CAA ADs as the primary source of information for compliance with requirements for corresponding FAA ADs. The FAA has been coordinating this process with manufacturers and CAAs. As a result, the FAA proposes to incorporate EASA AD 2025-0028 by reference in the FAA final rule. This proposed AD would, therefore, require compliance with EASA AD 2025-0028 in its entirety through that incorporation, except for any differences identified as exceptions in the regulatory text of this proposed AD. Using common terms that are the same as the heading of a particular section in EASA AD 2025-0028 does not mean that operators need comply only with that section. For example, where the AD requirement refers to “all required actions and compliance times,” compliance with this AD requirement is not limited to the section titled “Required Action(s) and Compliance Time(s)” in EASA AD 2025-0028. Material required by EASA AD 2025-0028 for compliance will be available at regulations.gov under Docket No. FAA-2025-5393 after the FAA final rule is published.

Costs of Compliance

The FAA estimates that this AD, if adopted as proposed, would affect 34 helicopters of U.S. registry. The FAA estimates the following costs to comply with this proposed AD.

Estimated Costs
Action | Labor cost | Parts cost | Cost per product | Cost on U.S. operators
Perform consistency check | 2 work-hours × $85 per hour = $170 | $0 | $170 | $5,780

The FAA estimates the following costs to do any actions that would be required based on the results of the proposed inspection. The agency has no way of determining the number of helicopters that might need these actions.

On-Condition Costs
Action | Labor cost | Parts cost | Cost per product
Review existing helicopter log card or equivalent record | 1 work-hour × $85 per hour = $85 | $0 | $85
Re-identify MRH | 1 work-hour × $85 per hour = $85 | 0 | 85

The FAA has received no definitive data on which to base the cost estimates for the corrective actions specified in this proposed AD.

Optional Action Costs
Action | Labor cost | Parts cost | Cost per product
Replace MRH | 10 work-hours × $85 per hour = $850 | Up to $89,000 | Up to $89,850.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters Deutschland GmbH (AHD): Docket No. FAA-2025-5393; Project Identifier MCAI-2025-00157-R.

(a) Comments Due Date

The FAA must receive comments on this airworthiness directive (AD) by February 2, 2026.

(b) Affected ADs

None.

(c) Applicability

This AD applies to Airbus Helicopters Deutschland GmbH (AHD) Model MBB-BK 117 A-1, MBB-BK 117 A-3, MBB-BK 117 A-4, MBB-BK 117 B-1, MBB-BK 117 B-2, and MBB-BK 117 C-1 helicopters, certificated in any category.

(d) Subject

Joint Aircraft System Component (JASC) Code 6220, Main Rotor Head.

(e) Unsafe Condition

This AD was prompted by a report of a main rotor head (MRH) having the same part number (P/N) and serial number (S/N) as another MRH due to incorrect modification instructions where the modified part S/N was not re-identified and the MRH can be operated with the wrong associated log card if accidently interchanged. The FAA is issuing this AD to detect and correct the incorrect identification of S/Ns and P/Ns on MRHs which, if not addressed, could result in operation of an MRH and its critical parts beyond certified limits and lead to failure of certain parts and consequent loss of control of the helicopter.

(f) Compliance

Comply with this AD within the compliance times specified, unless already done.

(g) Requirements

Except as specified in paragraphs (h) and (i) of this AD: Comply with all required actions and compliance times specified in, and in accordance with, European Union Aviation Safety Agency (EASA) AD 2025-0028, dated February 7, 2025 (EASA AD 2025-0028).

(h) Exceptions to EASA AD 2025-0028

(1) Where EASA AD 2025-0028 refers to its effective date, this AD requires using the effective date of this AD.

(2) Where EASA AD 2025-0028 requires compliance in terms of flight hours, this AD requires using hours time-in-service.

(3) Where paragraphs (2) and (4) of EASA AD 2025-0028 specify discrepancy, for the purposes of this AD, a discrepancy can be defined as the serial number on the MRH [Main Rotor Head] not matching the serial number on the helicopters existing log card or equivalent record.

(4) Where the material referenced in EASA AD 2025-0028 specifies “check”, this AD requires replacing that text with “inspect”.

(5) Where EASA AD 2025-0028 and the material referenced in EASA AD 2025-0028 specifies “MRH log card”, this AD requires replacing that text with “existing helicopter log card or equivalent record”.

(6) Where EASA AD 2025-0028 or the referenced material specifies to contact AH [Airbus Helicopters] to obtain approved instructions, or specifies a part is eligible for installation in accordance with AH instructions, this AD requires those actions done in accordance with a method approved by the Manager, International Validation Branch, FAA; or EASA; or Airbus Helicopters' EASA Design Organization Approval (DOA). If approved by the DOA, the approval must include the DOA-authorized signature.

(7) This AD does not adopt the “Remarks” section of EASA AD 2025-0028.

(i) No Reporting Requirement

Although the material referenced in EASA AD 2025-0028 specifies to submit certain information to the manufacturer, this AD does not require that action.

(j) Alternative Methods of Compliance (AMOCs)

The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (k) of this AD and email to: AMOC@faa.gov. Before using any approved AMOC, notify your appropriate principal inspector, or lacking a principal inspector, the manager of the responsible Flight Standards Office.

(k) Additional Information

For more information about this AD, contact Promita Dey, Aviation Safety Engineer, FAA, 1600 Stewart Avenue, Suite 410, Westbury, NY 11590; phone: (913) 563-8269; email: promita.dey@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2025-0028, dated February 7, 2025.

(ii) [Reserved]

(3) For EASA material identified in this AD, contact EASA, Konrad-Adenauer-Ufer 3, 50668 Cologne, Germany; phone: +49 221 8999 000; email: ADs@easa.europa.eu; website: easa.europa.eu. You may find this material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on December 15, 2025.
Steven W. Thompson,
Acting Deputy Director, Compliance & Airworthiness Division, Aircraft Certification Service.

[FR Doc. 2025-23258 Filed 12-17-25; 8:45 am]

BILLING CODE 4910-13-P